DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession and control of the New York University College of Dentistry, New York, NY. The human remains were removed from Broward and Levy Counties, FL, and an unknown mound in East Florida.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the New York University College of Dentistry professional staff in consultation with representatives of the Alabama-Quassarte Tribal Town, Oklahoma; Choctaw Nation of Oklahoma; Jena Band of Choctaw Indians, Louisiana; Kialegee Tribal Town, Oklahoma; Miccosukee Tribe of Indians of Florida; Mississippi Band of Choctaw Indians, Mississippi; Muscogee (Creek) Nation, Oklahoma; Poarch Band of Creek Indians of Alabama; Seminole Nation of Oklahoma; Seminole Tribe of Florida (Dania, Big Cypress, Brighton, Hollywood & Tampa Reservations); and Thlopthlocco Tribal Town, Oklahoma.

In 1937, human remains representing a minimum of one individual were removed from a mound at Lettuce Lake, (8Bd7), Broward County, FL. The mound was excavated by Geoffrey Olson and William C. Orchard as part of an expedition sponsored by the Museum of the American Indian, Heye Foundation. The remains were accessioned by the Museum of the American Indian in 1937. In 1956, the Museum of the American Indian transferred the remains to Dr. Theodore Kazamiroff, New York University College of Dentistry. No known individual was identified. No associated funerary objects are present.

Artifacts recovered from the mound indicate that it dates to the Glades IIIa Period, A.D. 1200-1400, and is a Glades culture site of the Glades Tradition. The morphology of the remains is consistent with an individual of Native American ancestry. There is evidence for cultural continuity between the Glades IIIa Period and the post-contact people of the Broward County area. In the Historic Period, the area around Broward County is identified as Tequesta territory. In 1513, Tequesta villages were described in the records of the Ponce de Leon expedition. The Tequesta suffered from diseases and other disrupting forces of European contact, and, by 1743, a distinct group that could be identified as Tequesta had disappeared. In 1763, the remnant communities of Native Floridians in south Florida were taken to Cuba when Florida was transferred from Spanish to British control.

At an unknown date, human remains representing a minimum of one individual were removed from a mound at Hog Island, Levy County, FL. It is likely that the remains were collected by William Bryant in 1918. The remains from Hog Island were in the collection of William L. Bryant when it was sold to the Museum of the American Indian, Heye Foundation in 1920. In 1956, the Museum of the American Indian transferred the remains to Dr. Theodore Kazamiroff, New York University College of Dentistry. No known individual was identified. No associated funerary objects are present.

Hog Island is located within the North Peninsular Coast region. Florida state site files identify a Weeden Island Period burial mound, 8Lv2, on Hog Island. Artifacts from the mound indicate that it is associated with the Weeden Island 2 phase of the Weeden Island I Period, circa A.D. 150-450. The morphology of the remains is consistent with an individual of Native American ancestry. During the Weeden Island II Period (circa A.D. 600-1200), the North Peninsular coastal region of Florida remained a distinct region. The cultural sequence after A.D. 1200 is difficult to determine. The Safety Harbor culture to the south, the Northwest Florida cultures to the northwest, and Alachua culture to the east abut the region, but do not extend into the Northwest Peninsular Coast area. The early Spanish explorations of Ponce de Leon, Narvaez, and DeSoto did not enter the coastal Northwest Florida Peninsular areas. The Spanish did not establish any missions in the region after claiming La Florida. As a result, there is no information from early colonial documents regarding any people living in this region. This stands in marked contrast to the records for the area from Tampa Bay to the south and for the northwest coast of Florida. There are also no records to identify people from the region in subsequent French or English documents. It is likely that inhabitants of the Northwest Peninsular Coast quickly felt the effects of European diseases that were introduced by the Spanish in the early 16th century. As in other portions of Florida, their communities probably shrank in size until only a small portion of the original population was left. These people may have sought refuge elsewhere in Florida, but were never identified.

In 1920, human remains representing a minimum of seven individuals were removed from an unidentified mound in East Florida by Charles Hallock. The remains and objects from the mound were loaned by the Long Island Historical Society (now the Brooklyn Historical Society) to the Museum of the American Indian, Heye Foundation in 1920. According to archival records, the loan was made permanent in 1967. In 1956, the Museum of the American Indian transferred the remains to Dr. Theodore Kazamiroff, New York University College of Dentistry. No known individuals were identified. No associated funerary objects are present.

The specific site and age for the remains is not known, but the morphology of the remains is consistent with individuals of Native American ancestry. In prehistoric cultural sequences, the area of eastern Florida is identified with the St. Johns culture, whose territory lay in the portions of eastern and central Florida where the St. Johns River and its tributaries flow. The St. Johns tradition first appeared around 500 B.C. and continued until European contact. It is divided into several periods, all of which include burial mounds. In 16th century records, the people living in the St. Johns River area are identified as the Timucua. Historic mission records suggest that diseases introduced between 1562 and 1595 had decimated the population in the St. Johns River area. Additional epidemics in the first half of the 17th century resulted in massive population loss and changes to the diet, health, economy, and religion of the Timucua. In 1684, the British began to attack the Spanish missions where the Timucua were living in order to gain control of Florida. At the same time, the missions were also subject to slave raiding by tribes from the north. By 1704, all missions but St. Augustine were destroyed and the remaining Timucua took refuge at it. In 1711, only 942 Timucua and Apalachee were living around St. Augustine. Slave raiding, disease, and English attacks further reduced the population; by 1759, only 59 Timucua and Apalachee remained at St. Augustine. The Spanish withdrew from St. Augustine between 1763-1764, taking the 89 Indians from St. Augustine with them to Cuba.

In all three sites mentioned-above, the population vacuum created by the absence of Florida tribal groups opened the state to migration by the Lower Creek. The first Creek settlements were located in northern Florida. Conflicts with the British, and then the American government, pushed the Creek into the southern half of the state. These Creek communities grew independent of Creek nations to the north and became known as the Seminole and Miccosukee.

Officials of the New York University College of Dentistry have determined that, pursuant to 25 U.S.C. 3001(9), the human remains described above represent the physical remains of nine individuals of Native American ancestry. Officials of the New York University College of Dentistry also have determined that, pursuant to 25 U.S.C. 3001(2), a relationship of shared group identity cannot reasonably be traced between the Native American human remains and any present-day Indian tribe.

The Native American Graves Protection and Repatriation Review Committee (Review Committee) is responsible for recommending specific actions for disposition of culturally unidentifiable human remains. In July 2009, the New York University College of Dentistry requested that the Review Committee recommend disposition of the culturally unidentifiable human remains of nine individuals to the Miccosukee Tribe of Indians of Florida. The Review Committee considered the proposal at its October 30-31, 2009, meeting and recommended disposition of the human remains to the Miccosukee Tribe of Indians of Florida.

A March 4, 2010, letter from the Designated Federal Official, writing on behalf of the Secretary of the Interior, transmitted the authorization for the College to effect disposition of the human remains to the Miccosukee Tribe of Indians of Florida contingent on the publication of a Notice of Inventory Completion in the Federal Register. This notice fulfills that requirement.

Representatives of any other Indian tribe that believes itself to be culturally affiliated with the human remains should contact Dr. Louis Terracio, New York University College of Dentistry, 345 East 24th St., New York, NY 10010, telephone (212) 998-9917, before July 26, 2010. Disposition of the human remains to the Miccosukee Tribe of Indians of Florida may proceed after that date if no additional claimants come forward.

The New York University College of Dentistry is responsible for notifying the Alabama-Quassarte Tribal Town, Oklahoma; Choctaw Nation of Oklahoma; Jena Band of Choctaw Indians, Louisiana; Kialegee Tribal Town, Oklahoma; Miccosukee Tribe of Indians of Florida; Mississippi Band of Choctaw Indians, Mississippi; Muscogee (Creek) Nation, Oklahoma; Poarch Band of Creek Indians of Alabama; Seminole Nation of Oklahoma; Seminole Tribe of Florida (Dania, Big Cypress, Brighton, Hollywood & Tampa Reservations); and Thlopthlocco Tribal Town, Oklahoma, that this notice has been published.

Dated: June 18, 2010
David Tarler,
Acting Manager, National NAGPRA Program.

[FR Doc. 2010-15286 Filed 6-23-10; 8:45 am]

BILLING CODE 4312-50-S